DEPARTMENT OF AGRICULTURE

Food and Nutrition Service

7 CFR Part 275

[FNS-2018-0043]

RIN 0584-AE64

Supplemental Nutrition Assistance Program: Non-Discretionary Quality Control Provisions of Title IV of the Agricultural Improvement Act of 2018; Correction

AGENCY: Food and Nutrition Service (FNS), Department of Agriculture (USDA).

ACTION: Correcting amendment and extension of comment period for interim final rule.

SUMMARY: This document contains a correction to an interim final rule published in the Federal Register on Friday, August 13, 2021. The rule codifies statutory requirements enacted by the Agriculture Improvement Act of 2018. This document also extends the comment period for the interim final rule.

DATES:

Effective date: The correction is effective September 2, 2021.

Comment date: The comment period for the interim final rule published August 13, 2021 (86 FR 44575), is extended. Written comments on the interim final rule must be received on or before November 1, 2021 to be assured of consideration.

ADDRESSES: The Food and Nutrition Service, USDA, invites interested persons to submit written comments on the interim final rule. Comments may be submitted in writing by one of the following methods:

• Federal eRulemaking Portal: Go to http://www.regulations.gov. Follow the online instructions for submitting comments.

• Mail: Send comments to Stephanie Proska, Branch Chief, Quality Control Branch, Program Accountability and Administration Division; Food and Nutrition Service; 1320 Braddock Place, 5th Floor; Alexandria, Virginia 22314.

• Email: Send comments to SNAPQCReform@usda.gov. Include Docket ID Number FNS-2018-0043, “SNAP: Non-Discretionary QC provisions of Title IV of PL 115-334” in the subject line of the message.

• All written comments submitted in response to the interim final rule will be included in the record and will be made available to the public. Please be advised that the substance of the comments and the identity of the individuals or entities submitting the comments will be subject to public disclosure. FNS will make the written comments publicly available on the internet via http://www.regulations.gov.

FOR FURTHER INFORMATION CONTACT: Stephanie Proska, Food and Nutrition Service, 1320 Braddock Place, 5th Floor; Alexandria, Virginia 22314, via phone at (703) 305-2437 or email at SNAPQCReform@usda.gov.

SUPPLEMENTARY INFORMATION: In an interim final rule published on Friday, August 13, 2021 (86 FR 44575), amendatory instruction 8b incorrectly called for revising paragraph (b) in § 275.21. It should have instructed a revision to paragraph (b) introductory text. This led to the erroneous removal of paragraphs (b)(1) through (4). In addition, the preamble of the interim final rule discussed amending paragraph (b)(1) to update language associated with State agencies submitting “edited findings” for the FNS Form-380-1 and FNS Form 245 and to update outdated language regarding the technology used for submitting findings to FNS. However, the amendatory text for these changes were erroneously excluded from the published rule. Therefore, this document makes a correcting amendment to § 275.21(b) to restore and revise the text for paragraph (b)(1) and restore the erroneously lost regulatory text for paragraphs (b)(2) through (4). All other regulatory provisions in the August 13, 2021, interim final rule remain unchanged. This document also extends the comment period for the interim final rule until November 1, 2021 to provide the public ample time to consider these amendments.

List of Subjects in 7 CFR Part 275

Grant programs—social programs, Reporting and recordkeeping requirements.

Accordingly, 7 CFR part 275 is corrected by making the following correcting amendment:

PART 275—PERFORMANCE REPORTING SYSTEM

1. The authority citation for part 275 continues to read as follows:

Authority: 7 U.S.C. 2011-2036.

2. Section 275.21 is amended by adding paragraphs (b)(1) through (4) to read as follows:

§ 275.21 Quality control review reports.

* * * * *

(b) * * *

(1) The State agency shall utilize SNAPQCS, FNS' automated, web-based QC System, to report all required QC forms, supporting evidence, and information necessary to understand the disposition and final findings for active and negative sampled cases to FNS. Upon State agency request, FNS will consider approval of any technical changes in the review results after they have been reported to FNS.

(2) The State agency shall have at least 115 days from the end of the sample month to dispose of and report the findings of all cases selected in a sample month. FNS may grant additional time as warranted upon request by a State agency for cause shown to complete and dispose of individual cases.

(3) The State agency shall supply the FNS Regional Office with individual household case records and the pertinent information contained in the individual case records, or legible copies of that material, as well as legible hard copies of individual Forms FNS-380, FNS-380-1, and FNS-245 or other FNS-approved report forms, within 10 days of receipt of a request for such information.

(4) For each case that remains pending 115 days after the end of the sample month, the State agency shall immediately submit a report that includes an explanation of why the case has not been disposed of, documentation describing the progress of the review to date, and the date by which it will be completed. If FNS extends the time frames in paragraph (b)(2) of this section, this date will be extended accordingly. If FNS determines that the report in the first sentence of this paragraph (b)(4) does not sufficiently justify the case's pending status, the case shall be considered overdue. Depending upon the number of overdue cases, FNS may find the State agency's QC system to be inefficient or ineffective and suspend and/or disallow the State agency's Federal share of administrative funds in accordance with the provisions of § 276.4.

* * * * *

Cynthia Long,
Acting Administrator, Food and Nutrition Service.

[FR Doc. 2021-18743 Filed 9-1-21; 8:45 am]

BILLING CODE 3410-30-P